DEPARTMENT OF ENERGY

Federal Energy Regulatory Commission

Combined Notice of Filings #1

Take notice that the Commission received the following electric rate filings:

Docket Numbers: ER10-1484-031; ER12-2381-017; ER13-1069-020; ER14-1140-007.

Applicants: Inspire Energy Holdings, LLC, MP2 Energy LLC, MP2 Energy NE LLC, Shell Energy North America (US), L.P.

Description: Notice of Change in Status of Shell Energy North America (US), L.P., et. al.

Filed Date: 10/31/23.

Accession Number: 20231031-5330.

Comment Date: 5 p.m. ET 11/21/23.

Docket Numbers: ER10-2126-008.

Applicants: Idaho Power Company.

Description: Notice of Change in Status of Idaho Power Company.

Filed Date: 10/31/23.

Accession Number: 20231031-5314.

Comment Date: 5 p.m. ET 11/21/23.

Docket Numbers: ER10-2354-013.

Applicants: Midway-Sunset Cogeneration Company.

Description: Notice of Non-Material Change in Status of Midway-Sunset Cogeneration Company.

Filed Date: 10/31/23.

Accession Number: 20231031-5337.

Comment Date: 5 p.m. ET 11/21/23.

Docket Numbers: ER12-1470-015; ER10-3026-013; ER16-1833-010.

Applicants: Sempra Gas & Power Marketing, LLC, Termoelectrica U.S., LLC, Energia Sierra Juarez U.S., LLC.

Description: Notice of Change in Status of Energia Sierra Juarez U.S., LLC, et. al.

Filed Date: 10/31/23.

Accession Number: 20231031-5331.

Comment Date: 5 p.m. ET 11/21/23.

Docket Numbers: ER15-1873-018; ER18-471-012; ER23-644-001; ER23-645-001; ER23-646-002; ER23-647-002.

Applicants: Diversion Wind Energy Holdings LLC, Wagon Wheel Wind Project Holdings LLC, Wagon Wheel Wind Project, LLC, Diversion Wind Energy LLC, States Edge Wind I LLC, Buckeye Wind Energy LLC.

Description: Notice of Change in Status of Buckeye Wind Energy LLC, et al.

Filed Date: 10/31/23.

Accession Number: 20231031-5307.

Comment Date: 5 p.m. ET 11/21/23.

Docket Numbers: ER16-1004-002.

Applicants: Roundtop Energy LLC.

Description: Compliance filing: Roundtop Energy Informational Filing to be effective N/A.

Filed Date: 11/1/23.

Accession Number: 20231101-5003.

Comment Date: 5 p.m. ET 11/22/23.

Docket Numbers: ER16-1032-002.

Applicants: Beaver Dam Energy LLC.

Description: Compliance filing: Beaver Dam Energy Informational Filing to be effective N/A.

Filed Date: 11/1/23.

Accession Number: 20231101-5004.

Comment Date: 5 p.m. ET 11/22/23.

Docket Numbers: ER16-1999-002; ER11-4625-008; ER14-608-006; ER16-1644-006; ER16-1998-002; ER16-2000-002; ER16-2001-002; ER16-2002-002; ER16-2003-002; ER16-2006-002; ER19-537-005.

Applicants: MRP San Joaquin Energy, LLC, CalPeak Power—Vaca Dixon LLC, CalPeak Power—Panoche LLC, Midway Peaking, LLC, Malaga Power, LLC, CalPeak Power—Enterprise LLC, CalPeak Power—Border LLC,MRP Generation Holdings, LLC, High Desert Power Project, LLC, Colton Power L.P., CalPeak Power LLC.

Description: Notice of Non-Material Change in Status of CalPeak Power LLC, et. al.

Filed Date: 10/31/23.

Accession Number: 20231031-5341.

Comment Date: 5 p.m. ET 11/21/23.

Docket Numbers: ER17-440-005.

Applicants: Alpaca Energy LLC.

Description: Compliance filing: Alapaca Energy Informational Filing to be effective N/A.

Filed Date: 10/31/23.

Accession Number: 20231031-5272.

Comment Date: 5 p.m. ET 11/21/23.

Docket Numbers: ER17-444-005.

Applicants: Milan Energy LLC.

Description: Compliance filing: Milan Energy Informational Filing to be effective N/A.

Filed Date:10/31/23.

Accession Number: 20231031-5278.

Comment Date: 5 p.m. ET 11/21/23.

Docket Numbers: ER17-1742-008; ER13-2490-012; ER17-311-008; ER19-2595-007; ER19-2670-007; ER19-2671-007; ER19-2672-007; ER20-1073-006; ER20-2510-006; ER20-2512-006; ER20-2515-006; ER20-2663-006; ER21-2406-005; ER21-2407-005; ER21-2408-005; ER21-2409-005; ER21-2638-005; ER22-734-004; ER22-2028-003; ER22-2421-002; ER22-2423-002; ER22-2425-002; ER22-2427-002.

Applicants: SR Cedar Springs, LLC, SR Clay, LLC, SR DeSoto I Lessee, LLC, SR DeSoto I, LLC, SR Hazlehurst, LLC, SR Arlington, LLC, SR Perry, LLC, SR Snipesville II, LLC, SR Lumpkin, LLC, SR Georgia Portfolio II Lessee, LLC, Lancaster Solar LLC, SR Snipesville, LLC, SR Georgia Portfolio I MT, LLC, SR Baxley, LLC, Odom Solar LLC, SR Terrell, LLC, SR Arlington II MT, LLC, SR Arlington II, LLC, SR Meridian III, LLC, SR Hazlehurst III, LLC, SR South Loving LLC, Simon Solar, LLC, Hattiesburg Farm, LLC.

Description: Notice of Non-Material Change in Status of Hattiesburg Farm, LLC, et. al.

Filed Date: 10/31/23.

Accession Number: 20231031-5350.

Comment Date: 5 p.m. ET 11/21/23.

Docket Numbers: ER18-2511-006.

Applicants: NorthWestern Corporation.

Description: Notice of Change in Status of NorthWestern Corporation under ER18-2511.

Filed Date: 10/31/23.

Accession Number: 20231031-5332.

Comment Date: 5 p.m. ET 11/30/23.

Docket Numbers: ER19-647-004.

Applicants: Wolf Run Energy LLC.

Description: Compliance filing: Wolf Run Energy Informational Filing to be effective N/A.

Filed Date: 10/31/23.

Accession Number: 20231031-5281.

Comment Date: 5 p.m. ET 11/21/23.

Docket Numbers: ER19-2847-005.

Applicants: Oxbow Creek Energy LLC.

Description: Compliance filing: Oxbow Creek Energy Informational Filing to be effective N/A.

Filed Date: 10/31/23.

Accession Number: 20231031-5279.

Comment Date: 5 p.m. ET 11/21/23.

Docket Numbers: ER23-2234-001; ER23-2233-001; ER23-2235-001; ER23-2236-001; ER23-2237-001; ER23-2238-001; ER23-2240-001; ER23-2241-001; ER23-2242-001; ER23-2243-001; ER23-2244-001; ER23-2245-001.

Applicants: Pixley Solar Energy LLC, Pixley Solar Energy Holdings LLC, Lazbuddie Wind Energy LLC, Lazbuddie Wind Energy Holdings LLC, Flat Ridge 5 Wind Energy LLC, Flat Ridge 5 Wind Energy Holdings LLC, Flat Ridge 4 Wind, LLC, Flat Ridge 4 Wind Holdings LLC, Chisholm Trail Solar Energy LLC, Chisholm Trail Solar Energy Holdings LLC, Algodon Solar Energy Holdings LLC, Algodon Solar Energy LLC.

Description: Notice of Change in Status of Algodon Solar Energy LLC, et al.

Filed Date: 10/31/23.

Accession Number: 20231031-5313.

Comment Date: 5 p.m. ET 11/21/23.

Docket Numbers: ER23-2398-002.

Applicants: Arizona Public Service Company.

Description: Compliance filing: Amendment No. 1 to APS Compliance Filing on Interconnection Reforms to be effective 9/30/2023.

Filed Date: 10/31/23.

Accession Number: 20231031-5268.

Comment Date: 5 p.m. ET 11/21/23.

Docket Numbers: ER24-198-001.

Applicants: El Paso Electric Company.

Description: Tariff Amendment: Service Agreement No. 355, Simultaneous Exchange with Dynasty or Alternative to be effective 12/31/2023.

Filed Date: 10/31/23.

Accession Number: 20231031-5287.

Comment Date: 5 p.m. ET 11/21/23.

Docket Numbers: ER24-274-000.

Applicants: Duke Energy Carolinas, LLC.

Description: 205(d) Rate Filing: DEC-City of Orangeburg PPA Rate Schedule No. 631 to be effective 1/1/2024.

Filed Date: 10/31/23.

Accession Number: 20231031-5261.

Comment Date: 5 p.m. ET 11/21/23.

Docket Numbers: ER24-275-000.

Applicants: ISO New England Inc., New England Power Pool Participants Committee.

Description: 205(d) Rate Filing: ISO New England Inc. submits tariff filing per 35.13(a)(2)(iii): Rev. to Est. a Jointly Optimized Day-Ahead Mkt. for Energy & Ancillary Services to be effective 3/1/2025.

Filed Date: 10/31/23.

Accession Number: 20231031-5266.

Comment Date: 5 p.m. ET 11/21/23.

Docket Numbers: ER24-276-000.

Applicants: New England Power Pool Participants Committee.

Description: 205(d) Rate Filing: Nov 2023 Membership Filing to be effective 11/1/2023.

Filed Date: 10/31/23.

Accession Number: 20231031-5275.

Comment Date: 5 p.m. ET 11/21/23.

Docket Numbers: ER24-277-000.

Applicants: FirstEnergy Pennsylvania Electric Company.

Description: Baseline eTariff Filing: 2023-10-31—Revisions to Agmt to Which Met Ed, Penelec & West Penn are Parties to be effective 10/31/2023.

Filed Date: 10/31/23.

Accession Number: 20231031-5290.

Comment Date: 5 p.m. ET 11/21/23.

Docket Numbers: ER24-278-000.

Applicants: Hartree Partners, LP.

Description: Compliance filing: MBR Change of Status of Hartree Partners, LP to be effective 10/31/2023.

Filed Date: 10/31/23.

Accession Number: 20231031-5292.

Comment Date: 5 p.m. ET 11/21/23.

Docket Numbers: ER24-279-000.

Applicants: NE Renewable Power, LLC.

Description: Compliance filing: MBR Change in Status of NE Renewable Power, LLC to be effective 10/31/2023.

Filed Date: 11/1/23.

Accession Number: 20231101-5000.

Comment Date: 5 p.m. ET 11/22/23.

Docket Numbers: ER24-280-000.

Applicants: EIF Newark, LLC.

Description: Compliance filing: MBR Change in Status of Hartree-Meadowlands Newark, LLC to be effective 10/31/2023.

Filed Date: 11/1/23.

Accession Number: 20231101-5001.

Comment Date: 5 p.m. ET 11/22/23.

Docket Numbers: ER24-281-000.

Applicants: Newark Energy Center, LLC.

Description: Compliance filing: MBR Change in Status of Newark Energy Center, LLC to be effective 10/31/2023.

Filed Date: 11/1/23.

Accession Number: 20231101-5002.

Comment Date: 5 p.m. ET 11/22/23.

Docket Numbers: ER24-282-000.

Applicants: Pacific Gas and Electric Company.

Description: Tariff Amendment: APPENDIX IX : STAR Process Termination TO Tariff to be effective 1/1/2024.

Filed Date: 11/1/23.

Accession Number: 20231101-5005.

Comment Date: 5 p.m. ET 11/22/23.

Docket Numbers: ER24-283-000.

Applicants: Midcontinent Independent System Operator, Inc., ALLETE, Inc.

Description: 205(d) Rate Filing: Midcontinent Independent System Operator, Inc. submits tariff filing per 35.13(a)(2)(iii): 2023-11-01_SA 4162 MP-GRE T-T (Portage Lake) to be effective 10/30/2023.

Filed Date: 11/1/23.

Accession Number: 20231101-5010.

Comment Date: 5 p.m. ET 11/22/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 1, 2023.
Debbie-Anne A. Reese,
Deputy Secretary.

[FR Doc. 2023-24593 Filed 11-6-23; 8:45 am]

BILLING CODE 6717-01-P